DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 27, 2021.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on October 4, 2021.
Donald P. Burger,
Chief, General Approvals and Permits Branch.

Special Permits Data
Application No. | Applicant | Regulation(s) affected | Nature of the special permits thereof
8215-M | Olin Winchester LLC | 172.320, 172.400, 173.212, 173.56(b), 173.62(c) | To modify the special permit to authorize an additional packaging type and an additional facility. (modes 1, 2).
10232-M | Illinois Tool Works Inc | 173.304(d), 173.167, 173.306(i) | To modify the special permit to remove an obsolete proper shipping name from the special permit. (modes 1, 2, 3, 4, 5).
11634-M | The Avon Company | 172.301(c), 173.24a(a)(3) | To modify the special permit to authorize a new proper shipping name to replace an obsolete proper shipping name in the special permit. (mode 1).
11646-M | Baker Petrolite LLC | 172.203(a), 172.301(c), 177.834(h) | To modify the special permit to authorize an additional hazardous material. (mode 1).
12184-M | Weldship LLC | 173.302a(b)(2), 173.302a(b)(3), 173.302a(b)(4), 173.302a(b)(5), 180.205(c), 180.205(f), 180.205(g), 180.205(i), 180.209(a), 180.213 | To modify the special permit to clarify the packaging testing requirements. (modes 1, 2, 3, 4).
14574-M | CMC Materials EC, Inc | 180.407(c), 180.407(e), 180.407(f) | To modify the special permit to authorize an additional cargo tank. (mode 1).
20493-M | Tesla, Inc. | 172.101(j) | To modify the special permit to include additional cell types for use in the lithium ion battery. (mode 4).
21144-M | Consolidated Nuclear Security LLC | 173.56(b) | To modify the special permit to increase the maximum quantity per shipment to 3,025 gallons. (modes 1, 4).
21167-M | KULR Technology Corporation | 173.185(a)(1), 172.101(j), 173.185(b)(3) | To modify the special permit to authorize alternative inner packaging. (modes 1, 2, 3, 4).
21193-M | KULR Technology Corporation | 172.200, 172.300, 172.700(a), 172.400, 172.500, 172.600, 173.185(f) | To modify the special permit to authorize alternative inner packaging. (modes 1, 2).

[FR Doc. 2021-22157 Filed 10-8-21; 8:45 am]

BILLING CODE 4909-60-P